DEPARTMENT OF HEALTH AND HUMAN SERVICES

National Committee on Vital and Health Statistics: Meeting

Pursuant to the Federal Advisory Committee Act, the Department of Health and Human Services (DHHS) announces the following advisory committee meeting.

Name: National Committee on Vital and Health Statistics (NCVHS), Full Committee Meeting.

Time and Date: November 18, 2008 9 a.m.-3 p.m. November 19, 2008 10 a.m.-12 p.m.

Place: Radisson Hotel Reagan National Airport, 2020 Jefferson Davis Hwy., Arlington, VA 22202.

Status: Open.

Purpose: At this meeting the Committee will hear presentations and hold discussions on several health data policy topics. On the morning of the first day the Committee will hear updates from the Department from the HHS Data Council, the Centers for Medicare and Medicaid Services, and the NCVHS Executive Subcommittee. In the afternoon there will be a speaker on Clinical and Translational Science Awards (CTSA) from the National Institutes of Health and an update from the Office of the National Coordinator regarding the American Health Information Community (AHIC) advisory body.

On the morning of the second day the Committee will discuss subcommittee work. There will also be an update from NCHS Board of Scientific Counselors. In addition, there will be a discussion of the NCVHS 60th Anniversary celebration and 21st Century Health Statistics update.

The times shown above are for the full Committee meeting. Subcommittee breakout sessions can be scheduled for late in the afternoon of the first day and second day and in the morning prior to the full Committee meeting on the second day. Agendas for these breakout sessions will be posted on the NCVHS Web site (URL below) when available.

Contact Person for More Information: Substantive program information as well as summaries of meetings and a roster of committee members may be obtained from Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: October 20, 2008.
James Scanlon,
Deputy Assistant Secretary for Science and Data Policy,Office of the Assistant Secretary, for Planning and Evaluation.

[FR Doc. E8-25884 Filed 10-29-08; 8:45 am]

BILLING CODE 4151-05-P